DEPARTMENT OF TRANSPORTATION

Federal Highway Administration

Environmental Impact Statement: Peoria, Tazewell, Woodford, Livingston, Marshall, McLean, Putnam, Bureau, and La Salle Counties, IL

AGENCY: Federal Highway Administration (FHWA), DOT.

ACTION: Notice of intent.

SUMMARY: The FHWA is issuing this notice to advise the public that an environmental impact statement (EIS) will be prepared for constructing a proposed four-lane Heart of Illinois Highway in north central Illinois. Three feasible corridors identified by Illinois DOT as part of an earlier study will be the focus of the EIS. The proposed highway would improve the highway connection between the Peoria area and northeastern Illinois.

FOR FURTHER INFORMATION CONTACT:

Ronald C. Marshall, P.E., Division Administrator, Federal Highway Administration, 3250 Executive Park Drive, Springfield, IL 62703; Phone: (217) 492-4600

Joseph E. Crowe, P.E., District Engineer, Illinois Department of Transportation, District 4, 401 Main Street, Peoria, IL 61602-1111; Phone: (309) 671-3333

SUPPLEMENTARY INFORMATION: The FHWA, in cooperation with the Illinois Department of Transportation, will prepare an Environmental Impact Statement (EIS) on a proposal to develop a four-lane divided highway, known as the Heart of Illinois Highway, between Peoria and the interstate freeway system either north or east of Peoria. Three feasible corridors previously identified by Illinois DOT will be examined as part of the Draft EIS. One corridor is located west of the Illinois River and is oriented in a north-south direction. The other two corridors are located east of the Illinois River and are oriented east-west. Each corridor is approximately 40 to 50 miles long. The proposed project will bypass communities within the three feasible corridors.

The proposed action will enhance travel efficiency and safety within the study area, improve transportation continuity and rural access, and support economic development in the region.

This proposed project will select a preferred corridor for detailed engineering and environmental analysis and will select a recommended alignment within the preferred corridor. A preferred corridor will be recommended and presented at a Public Hearing. Alternate alignments will be studied within the preferred corridor once it has been identified. Alternates studied will address engineering and environmental concerns in order to determine an alignment location which meets the transportation needs of the region and minimizes the impacts to the environment. Alignment studies will determine one preferred alignment location and address type of facility, preliminary interchange geometrics, engineering and environmental impacts identified. Preliminary measures to minimize harm, probable construction cost estimates and estimated right of way requirements will be developed. A second hearing will be held to present the final preferred alignment.

Several alignment alternatives, including the no-action alternative, will be evaluated for the proposed project. Interchanges will be provided at all major high-volume roadways. Primary resources that would be affected are agricultural land, property tax income, wetlands, and woodlands.

A scoping process will be undertaken as part of this project. The process will include meetings, coordination with appropriate Federal, State, and local agencies, and review sessions as needed. A study group comprised of local officials, environmental, and other community interests has been established to provide input during development and refinement of alternatives. A scoping packet may be obtained from one of the contact people listed above.

To ensure that the full range of issues related to this proposed action are addressed, and all substantive issues are identified, public involvement activities will be conducted as part of the study. Drop-in centers, newsletters, and interest group meetings will be scheduled. The project's Draft EIS will be available for public and agency review prior to the public hearing. The time and location of the public hearing will be announced in local newspapers. Comments or questions concerning this proposed action and the Draft EIS should be directed to FHWA or the Illinois Department of Transportation at the addresses provided above.

(Catalog of Federal Domestic Assistance Program Number 20.205, Highway Planning and Construction. The regulations implementing Executive Order 12372 regarding intergovernmental consultation on Federal programs and activities apply to this program)

Dated: April 20, 2000.
Jon-Paul Kohler,
Environmental Engineer, Springfield, Illinois.

[FR Doc. 00-10429 Filed 4-25-00; 8:45 am]

BILLING CODE 4910-22-M